DEPARTMENT OF TRANSPORTATION

Federal Aviation Administration

14 CFR Parts 27 and 29

[Docket No. FAA-2009-0660; Amdt. Nos. 27-47A, 29-54A; and Docket No. FAA-2009-0413; Amdt. No. 29-55A]

RIN 2120-AJ52, 2120-AJ51

Damage Tolerance and Fatigue Evaluation for Composite Rotorcraft Structures, and Damage Tolerance and Fatigue Evaluation for Metallic Structures; Correction

AGENCY: Federal Aviation Administration (FAA), DOT.

ACTION: Final rule; correction.

SUMMARY: The FAA is correcting two final rules, “Damage Tolerance and Fatigue Evaluation for Composite Rotorcraft Structures” (76 FR 74655), published December 1, 2011, and “Damage Tolerance and Fatigue Evaluation for Metallic Structures” (76 FR 75435), published December 2, 2011. In the “Composite Rotorcraft Structures” rule, the FAA amended its regulations to require evaluation of fatigue and residual static strength of composite rotorcraft structures using a damage tolerance evaluation, or a fatigue evaluation if the applicant establishes that a damage tolerance evaluation is impractical. In the “Metallic Structures” rule, the FAA amended its regulations to address advances in structural fatigue substantiation technology for metallic structures to provide an increased level of safety by avoiding or reducing the likelihood of the catastrophic fatigue failure of a metallic structure. This document corrects errors in the preamble of those two documents by adding a statement advising that affected parties do not need to comply with the information collection requirements until the Office of Management and Budget (OMB) approves the collections.

DATES: This correction is effective February 1, 2012. The “Composite Rotorcraft Structures” final rule becomes effective January 30, 2012. The “Metallic Structures” final rule becomes effective January 31, 2012.

FOR FURTHER INFORMATION CONTACT: For technical questions concerning this action, contact Sharon Y. Miles, Regulations and Policy Group, Rotorcraft Directorate, ASW-111, Federal Aviation Administration, 2601 Meacham Boulevard, Fort Worth, Texas 76137; telephone (817) 222-5122; facsimile (817) 222-5961; email sharon.y.miles@faa.gov. For legal questions concerning this action, contact Steve C. Harold, Directorate Counsel, ASW-7G, Federal Aviation Administration, 2601 Meacham Boulevard, Fort Worth, Texas 76137, telephone (817) 222-5099; facsimile (817) 222-5945, email steve.c.harold@faa.gov.

SUPPLEMENTARY INFORMATION:

Background

On December 1, 2011, the FAA published the final rule entitled, “Damage Tolerance and Fatigue Evaluation for Composite Rotorcraft Structures” (76 FR 74655). On December 2, 2011, the FAA published the final rule entitled, “Damage Tolerance and Fatigue Evaluation for Metallic Structures” (76 FR 75435).

In the “Composite Rotorcraft Structures” final rule, the FAA amended its regulations to require evaluation of fatigue and residual static strength of composite rotorcraft structures using a damage tolerance evaluation, or a fatigue evaluation if the applicant establishes that a damage tolerance evaluation is impractical.

In the “Metallic Structures” final rule, the FAA amended its regulations to address advances in structural fatigue substantiation technology for metallic structures. This provides an increased level of safety by avoiding or reducing the likelihood of the catastrophic fatigue failure of a metallic structure. These increased safety requirements help ensure that should serious accidental damage occur during manufacturing or within the operational life of the rotorcraft, the remaining structure could withstand, without failure, any fatigue loads that are likely to occur, until the damage is detected or the part is replaced.

Both final rules included information collection requirements. However, the FAA inadvertently neglected to include a statement advising affected parties that they are not required to comply with these portions of the regulations until the Office of Management and Budget (OMB) approves the collections and assigns control numbers under the Paperwork Reduction Act of 1995. The FAA will publish in the Federal Register a notice of the control numbers assigned by OMB when these information collection requirements are approved.

Corrections

In FR Doc. 2011-30945, beginning on page 74655 in the Federal Register of December 1, 2011, make the following correction:

On page 74655, in the second column, after “Dates: Effective January 30, 2012.”, insert “Affected parties, however, are not required to comply with the information collection requirement in §§ 27.573 and 29.573 until the Office of Management and Budget (OMB) approves the collection and assigns a control number under the Paperwork Reduction Act of 1995. The FAA will publish in the Federal Register a notice of the control number assigned by the Office of Management and Budget (OMB) for this information collection requirement.”

In FR Doc. 2011-30941, beginning on page 75435 in the Federal Register of December 2, 2011, make the following correction:

On page 75435, in the second column, after “Dates: Effective January 31, 2012.”, insert “Affected parties, however, are not required to comply with the information collection requirement in § 29.571 until the Office of Management and Budget (OMB) approves the collection and assigns a control number under the Paperwork Reduction Act of 1995. The FAA will publish in the Federal Register a notice of the control number assigned by the Office of Management and Budget (OMB) for this information collection requirement.”

Issued in Washington, DC, on January 26, 2012.
Pamela Hamilton-Powell,
Director, Office of Rulemaking.

[FR Doc. 2012-2170 Filed 1-27-12; 8:45 am]

BILLING CODE 4910-13-P